ENVIRONMENTAL PROTECTION AGENCY

[FRL-7205-2]

Final Reissuance of General NPDES Permit (GP) for Alaskan Small Suction Dredging (Permit Number AKG-37-5000)

AGENCY: Environmental Protection Agency (EPA).

ACTION: Final Notice of reissuance of a general permit.

SUMMARY: This general permit was originally effective on April 7, 1997, and expired on April 9, 2002. On December 19, 2001, EPA proposed to reissue the general permit. There was a 45 day public comment period which ended on February 4, 2002. No comments were received on the general permit.

DATES: The general permit will be effective on June 3, 2002. All facilities that submitted a Notice of Intent (NOI) between December 19, 2001, and April 9, 2002, will be granted administratively extended coverage until the effective date of the new general permit. For these facilities, coverage under the new general permit will begin and the administrative extension under the previous general permit will end on the effective date. After the effective date, coverage will begin upon receipt of the NOI by EPA.

ADDRESSES: Copies of the General Permit are available upon request. Written requests may be submitted to EPA, Region 10, 1200 Sixth Avenue OW-130, Seattle, WA 98101. Electronic requests may be mailed to: washington.audrey@epa.gov or godsey.cindi@epa.gov.

FOR FURTHER INFORMATION CONTACT: The General Permit, Fact Sheet and Summary may be found on the Region 10 website at www.epa.gov/r10earth/offices/water.htm under the NPDES Permits section. Requests by telephone may be made to Audrey Washington at (206) 553-0523.

SUPPLEMENTARY INFORMATION: Executive Order 12866: The Office of Management and Budget has exempted this action from the review requirements of Executive Order 12866 pursuant to section 6 of that order.

The state of Alaska, Department of Environmental Conservation (ADEC), has certified that the subject discharges comply with the applicable provisions of sections 208(e), 301, 302, 306 and 307 of the Clean Water Act. The state of Alaska, Office of Management and Budget, Division of Governmental Coordination (ADGC), has conducted a review for consistency with the Alaska Coastal Management Program (ACMP) and has agreed with EPA's determination that the general permit is consistent with the ACMP.

Regulatory Flexibility Act: EPA has concluded that General NPDES permits are permits under the Administrative Procedure Act (APA), 5 U.S.C. 551 et seq., and thus not subject to APA rulemaking requirements or the Regulatory Flexibility Act.

Dated: April 22, 2002.
Michael A. Bussell,
Deputy Director, Office of Water, Region 10.

[FR Doc. 02-10875 Filed 5-1-02; 8:45 am]

BILLING CODE 6560-50-P